DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Date: December 21, 2016.
Roy E. Wright,
Deputy Associate Administrator for Insurance and Mitigation, Department of Homeland Security, Federal Emergency Management Agency.

State and county | Location and case No. | Chief executive officer of community | Community map repository | Effective date of modification | Community No.
Alabama:
Shelby (FEMA Docket No.: B-1656) | City of Pelham (16-04-3762P) | The Honorable Gary W. Waters, Mayor, City of Pelham, P.O. Box 1419, Pelham, AL 35124 | City Hall, 3162 Pelham Parkway, Pelham, AL 35124 | Nov. 25, 2016 | 010193
Shelby (FEMA Docket No.: B-1656) | Unincorporated areas of Shelby County (16-04-3762P) | The Honorable Rick Shepherd, Chairman, Shelby County Commission, 200 West College Street, Columbiana, AL 35051 | Shelby County Engineering Department, 506 Highway 70, Columbiana, AL 35051 | Nov. 25, 2016 | 010191
Arkansas: Benton (FEMA Docket No.: B-1649) | City of Rogers (16-06-2846P) | The Honorable Greg Hines, Mayor, City of Rogers, 301 West Chestnut Street, Rogers, AR 72756 | Planning and Transportation Department, 301 West Chestnut Street, Rogers, AR 72756 | Nov. 18, 2016 | 050013
Colorado:
Adams (FEMA Docket No.: B-1649) | City of Thornton (16-08-0189P) | The Honorable Heidi Williams, Mayor, City of Thornton, 9500 Civic Center Drive, Thornton, CO 80229 | Engineering Services Division, 12450 Washington Street, Thornton, CO 80241 | Nov. 25, 2016 | 080007
Adams (FEMA Docket No.: B-1649) | Unincorporated areas of Adams County (16-08-0189P) | The Honorable Charles “Chaz” Tedesco, Chairman, Adams County Board of Commissioners, 4430 South Adams County Parkway, 5th Floor, Suite C5000A, Brighton, CO 80601 | Adams County Transportation Department, 4430 South Adams County Parkway, Brighton, CO 80601 | Nov. 25, 2016 | 080001
Broomfield (FEMA Docket No.: B-1649) | City and County of Broomfield (16-08-0401P) | The Honorable Randy Ahrens, Mayor, City and County of Broomfield, 1 DesCombes Drive, Broomfield, CO 80020 | City and County of Broomfield Engineering Department, 1 DesCombes Drive, Broomfield, CO 80020 | Nov. 4, 2016 | 085073
Denver (FEMA Docket No.: B-1649) | City and County of Denver (16-08-0128P) | The Honorable Michael B. Hancock, Mayor, City and County of Denver, 1437 Bannock Street, Suite 350, Denver, CO 80202 | Department of Public Works, 201 West Colfax Avenue, Denver, CO 80202 | Nov. 28, 2016 | 080046
Jefferson (FEMA Docket No.: B-1649) | Unincorporated areas of Jefferson County (15-08-0601P) | The Honorable Libby Szabo, Chair, Jefferson County, Board of Commissioners, 100 Jefferson County Parkway, Golden, CO 80419 | Jefferson County Planning and Zoning Division, 100 Jefferson County Parkway, Golden, CO 80419 | Nov. 18, 2016 | 080087
Weld (FEMA Docket No.: B-1649) | Town of Windsor (16-08-0495P) | Mr. Kelly Arnold, Manager, Town of Windsor, 301 Walnut Street, Windsor, CO 80550 | Town Hall, 301 Walnut Street, Windsor, CO 80550 | Nov. 4, 2016 | 080264
Connecticut:
Fairfield (FEMA Docket No.: B-1649) | Town of Westport (16-01-1134P) | The Honorable James S. Marpe, First Selectman, Town of Westport Board of Selectmen, 110 Myrtle Avenue, Westport, CT 06880 | Planning and Zoning Division, 110 Myrtle Avenue, Westport, CT 06880 | Nov. 28, 2016 | 090019
Hartford (FEMA Docket No.: B-1649) | City of Bristol (16-01-0873P) | The Honorable Kenneth B. Cockayne, Mayor, City of Bristol, 111 North Main Street, 3rd Floor, Bristol, CT 06010 | City Hall, 111 North Main Street, Bristol, CT 06010 | Nov. 14, 2016 | 090023
Delaware: Sussex (FEMA Docket No.: B-1649) | Unincorporated areas of Sussex County (16-03-1493P) | The Honorable Michael Vincent, President, Sussex County Council, P.O. Box 589, Georgetown, DE 19947 | Sussex County Planning and Zoning Department, 2 The Circle, Georgetown, DE 19947 | Nov. 18, 2016 | 100029
Florida:
Bay (FEMA Docket No.: B-1649) | City of Panama City (16-04-2379P) | The Honorable Greg Brudnicki, Mayor, City of Panama City, 9 Harrison Avenue, Panama City, FL 32401 | City Hall, 9 Harrison Avenue, Panama City, FL 32401 | Nov. 21, 2016 | 120012
Bay (FEMA Docket No.: B-1649) | Unincorporated areas of Bay County (16-04-2379P) | The Honorable Mike Nelson, Chairman, Bay County Board of Commissioners, 840 West 11th Street, Panama City, FL 32401 | Bay County Planning and Zoning Division, 840 West 11th Street, Panama City, FL 32401 | Nov. 21, 2016 | 120004
Hillsborough (FEMA Docket No.: B-1649) | Unincorporated areas of Hillsborough County (16-04-3000P) | Mr. Mike Merrill, Hillsborough County Administrator, P.O. Box 1110, Tampa, FL 33601 | Hillsborough County Building Services Department, 601 East Kennedy Boulevard, 19th Floor, Tampa, FL 33602 | Nov. 9, 2016 | 120112
Monroe (FEMA Docket No.: B-1649) | City of Key West (16-04-4341P) | The Honorable Craig Cates, Mayor, City of Key West, P.O. Box 1409, Key West, FL 33041 | Building Department, 3140 Flagler Avenue, Key West, FL 33040 | Nov. 25, 2016 | 120168
Monroe (FEMA Docket No.: B-1649) | City of Key West (16-04-4522P) | The Honorable Craig Cates, Mayor, City of Key West, P.O. Box 1409, Key West, FL 33041 | Building Department, 3140 Flagler Avenue, Key West, FL 33040 | Nov. 2, 2016 | 120168
Monroe (FEMA Docket No.: B-1649) | City of Marathon (16-04-4887P) | The Honorable Mark Senmartin, Mayor, City of Marathon, 9805 Overseas Highway, Marathon, FL 33050 | Planning Department, 9805 Overseas Highway, Marathon, FL 33050 | Nov. 14, 2016 | 120681
Monroe (FEMA Docket No.: B-1649) | Unincorporated areas of Monroe County (16-04-4521P) | The Honorable Heather Carruthers, Mayor, Monroe County Board of Commissioners, 500 Whitehead Street, Suite 102, Key West, FL 33040 | Monroe County Building Department, 2798 Overseas Highway, Marathon, FL 33050 | Nov. 4, 2016 | 125129
Monroe (FEMA Docket No.: B-1649) | Unincorporated areas of Monroe County (16-04-5061P) | The Honorable Heather Carruthers, Mayor, Monroe County Board of Commissioners, 500 Whitehead Street, Suite 102, Key West, FL 33040 | Monroe County Building Department, 2798 Overseas Highway, Marathon, FL 33050 | Nov. 9, 2016 | 125129
St. Johns (FEMA Docket No.: B-1649) | Unincorporated areas of St. Johns County (16-04-2225P) | The Honorable Jeb Smith, Chairman, St. Johns County Board of Commissioners, 500 San Sebastian View, St. Augustine, FL 32084 | St. Johns County Building Services Division, 4040 Lewis Speedway, St. Augustine, FL 32084 | Nov. 17, 2016 | 125147
Georgia:
Barrow (FEMA Docket No.: B-1649) | City of Statham (16-04-0966P) | The Honorable Robert Bridges, Mayor, City of Statham, P.O. Box 28, Statham, GA 30666 | Planning and Zoning Administration, 330 Jefferson Street, Statham, GA 30666 | Nov. 10, 2016 | 130275
Columbia (FEMA Docket No.: B-1649) | City of Grovetown (16-04-2693P) | The Honorable Gary Jones, Mayor, City of Grovetown, P.O. Box 120, Grovetown, GA 30813 | City Hall, 103 Old Wrightsboro Road, Grovetown, GA 30813 | Nov. 10, 2016 | 130265
Columbia (FEMA Docket No.: B-1649) | Unincorporated areas of Columbia County (16-04-2613P) | The Honorable Ron C. Cross, Chairman, Columbia County Board of Commissioners, P.O. Box 498, Evans, GA 30809 | Columbia County, Engineering Services Department, 630 Ronald Reagan Drive, Building A, East Wing, Evans, GA 30809 | Nov. 3, 2016 | 130059
Columbia (FEMA Docket No.: B-1649) | Unincorporated areas of Columbia County (16-04-2693P) | The Honorable Ron C. Cross, Chairman, Columbia County Board of Commissioners, P.O. Box 498, Evans, GA 30809 | Columbia County, Engineering Services Department, 630 Ronald Reagan Drive, Building A, East Wing, Evans, GA 30809 | Nov. 10, 2016 | 130059
Maine: York (FEMA Docket No.: B-1649) | Town of Kennebunkport (16-01-0716P) | The Honorable Sheila Matthews-Bull, Chair, Town of Kennebunkport, Board of Selectmen, P.O. Box 566, Kennebunkport, ME 04046 | Town Hall, 6 Elm Street, Kennebunkport, ME 04046 | Nov. 28, 2016 | 230170
North Carolina: Wake. (FEMA Docket No.: B-1649) | Unincorporated areas of Wake County (16-04-1268P) | The Honorable James West, Chairman, Wake County Board of Commissioners, P.O. Box 550, Raleigh, NC 27602 | Wake County Environmental Services Department, Waverly F. Akins Office Building, 336 Fayetteville Street, Raleigh, NC 27601 | Nov. 21, 2016 | 370368
North Dakota: Mackenzie (FEMA Docket No.: B-1649) | City of Watford City (16-08-0367P) | The Honorable Brent Sanford, Mayor, City of Watford City, P.O. Box 494, Watford City, ND 58854 | Engineering Department, 200 2nd Avenue Northeast, Watford City, ND 58854 | Nov. 17, 2016 | 380344
Oklahoma: Comanche (FEMA Docket No.: B-1649) | City of Lawton (15-06-0291P) | The Honorable Fred L. Fitch, Mayor, City of Lawton, 212 Southwest 9th Street, Lawton, OK 73501 | City Hall, 212 Southwest 9th Street, Lawton, OK 73501 | Nov. 4, 2016 | 400049
Pennsylvania: Columbia (FEMA Docket No.: B-1649) | Township of Mifflin (16-03-0594P) | The Honorable Ricky L. Brown, Chairman, Township of Mifflin Board of Supervisors, P.O. Box 359, Mifflinville, PA 18631 | Township Municipal Building, East 1st Street, Mifflinville, PA 18631 | Nov. 14, 2016 | 421167
Texas:
Bastrop (FEMA Docket No.: B-1649) | Unincorporated areas of Bastrop County (16-06-1114P) | The Honorable Paul Pape, Bastrop County Judge, 804 Pecan Street, Bastrop, TX 78602 | Bastrop County Tax Assessor and Development Services Department, 211 Jackson Street, Bastrop, TX 78602 | Nov. 14, 2016 | 481193
Bexar (FEMA Docket No.: B-1649) | City of San Antonio (16-06-1670P) | The Honorable Ivy R. Taylor, Mayor, City of San Antonio, P.O. Box 839966, San Antonio, TX 78283 | Transportation and Capital Improvements Department, Storm Water Division, 1901 South Alamo Street, 2nd Floor, San Antonio, TX 78204 | Nov. 17, 2016 | 480045
Brazoria (FEMA Docket No.: B-1649) | City of Manvel (16-06-0456P) | The Honorable Delores Martin, Mayor, City of Manvel, 20025 Highway 6, Manvel, TX 77578 | Development, Permits and Inspections Department, 20025 Highway 6, Manvel, TX 77578 | Nov. 25, 2016 | 480076
Brazoria (FEMA Docket No.: B-1649) | City of Pearland (16-06-0456P) | The Honorable Tom Reid, Mayor, City of Pearland, 3519 Liberty Drive, Pearland, TX 77581 | Engineering Division, 3519 Liberty Drive, Pearland, TX 77581 | Nov. 25, 2016 | 480077
Brazoria (FEMA Docket No.: B-1649) | Unincorporated areas of Brazoria County (16-06-0456P) | The Honorable L.M. “Matt” Sebesta, Jr., Brazoria County Judge, 111 East Locust Street, Angleton, TX 77515 | Brazoria County Floodplain Department, 111 East Locust Street Building A-29, Suite 210, Angleton, TX 77515 | Nov. 25, 2016 | 485458
Collin (FEMA Docket No.: B-1649) | City of McKinney (16-06-0106P) | The Honorable Brian Loughmiller, Mayor, City of McKinney, P.O. Box 517, McKinney, TX 75070 | Engineering Department, 221 North Tennessee Street, McKinney, TX 75069 | Nov. 28, 2016 | 480135
Denton (FEMA Docket No.: B-1649) | Town of Trophy Club (16-06-1485P) | The Honorable Nick Sanders, Mayor, Town of Trophy Club, 100 Municipal Drive, Trophy Club, TX 76262 | Community Development Department, 100 Municipal Drive, Trophy Club, TX 76262 | Nov. 28, 2016 | 480606
Ellis (FEMA Docket No.: B-1649) | City of Waxahachie (16-06-1354P) | The Honorable Kevin Strength, Mayor, City of Waxahachie, 401 South Rogers Street, Waxahachie, TX 75165 | City Municipal Court, 401 South Rogers Street, Waxahachie, TX 75165 | Nov. 14, 2016 | 480211
Ellis (FEMA Docket No.: B-1649) | Unincorporated areas of Ellis County (16-06-1354P) | The Honorable Carol Bush, Ellis County Judge, 101 West Main Street, Waxahachie, TX 75165 | Ellis County Historic Courthouse, 101 West Main Street, Waxahachie, TX 75165 | Nov. 14, 2016 | 480798
Guadalupe (FEMA Docket No.: B-1649) | City of Seguin (16-06-0919P) | The Honorable Don Keil, Mayor, City of Seguin, P.O. Box 591, Seguin, TX 78156 | Planning Department, 205 North River Street, Seguin, TX 78155 | Nov. 21, 2016 | 485508
Harris (FEMA Docket No.: B-1649) | City of Deer Park (16-06-0467P) | The Honorable Jerry Mouton Jr., Mayor, City of Deer Park, P.O. Box 700, Deer Park, TX 77536 | Public Works Department, 710 East San Augustine Street, Deer Park, TX 77536 | Nov. 14, 2016 | 480291
Harris (FEMA Docket No.: B-1649) | Unincorporated areas of Harris County (15-06-3864P) | The Honorable Edward M. Emmett, Harris County Judge, 1001 Preston Street, Suite 911, Houston, TX 77002 | Harris County Permit Office, 10555 Northwest Freeway, Suite 120, Houston, TX 77092 | Nov. 18, 2016 | 480287
Travis (FEMA Docket No.: B-1649) | City of Pflugerville (16-06-0599P) | The Honorable Jeff Coleman, Mayor, City of Pflugerville, P.O. Box 589, Pflugerville, TX 78660 | Development Services Center, 201-B East Pecan Street, Pflugerville, TX 78691 | Nov. 21, 2016 | 481028
Travis (FEMA Docket No.: B-1649) | Unincorporated areas of Travis County (16-06-0599P) | The Honorable Sarah Eckhardt, Travis County Judge, P.O. Box 1748, Austin, TX 78767 | Travis County Engineering Department, 700 Lavaca Street, Austin, TX 78767 | Nov. 21, 2016 | 481026
Williamson (FEMA Docket No.: B-1649) | Unincorporated areas of Williamson County (15-06-3486P) | The Honorable Dan A. Gattis, Williamson County Judge, 710 South Main Street, Suite 101, Georgetown, TX 78626 | Williamson County Engineering Department, 3151 Southeast Inner Loop, Suite B, Georgetown, TX 78626 | Nov. 10, 2016 | 481079
Utah: Grand (FEMA Docket No.: B-1649) | Unincorporated areas of Grand County (15-08-1440P) | The Honorable Elizabeth Tubbs, Chair, Grand County Council, 125 East Center Street, Moab, UT 84532 | Grand County Courthouse, 125 East Center Street, Moab, UT 84532 | Nov. 14, 2016 | 490232

[FR Doc. 2017-02408 Filed 2-6-17; 8:45 am]

BILLING CODE 9110-12-P